DEPARTMENT OF TRANSPORTATION

Federal Aviation Administration

14 CFR Part 39

[Docket No. 2000-NM-66-AD]

RIN 2120-AA64

Airworthiness Directives; Empresa Brasileira de Aeronautica S.A. (EMBRAER) Model EMB-120 Series Airplanes

AGENCY: Federal Aviation Administration, DOT.

ACTION: Notice of proposed rulemaking (NPRM).

SUMMARY: This document proposes the supersedure of an existing airworthiness directive (AD), applicable to all EMBRAER Model EMB-120 series airplanes, that currently requires repetitive visual checks or inspections to verify that the flight idle stop system circuit breakers are closed, and repetitive functional tests to determine if the backup flight idle stop system is operative. This action would require modification of the secondary flight idle stop system, which would terminate the repetitive actions. This proposal also would remove certain airplanes from the applicability. This proposal is prompted by issuance of mandatory continuing airworthiness information by a foreign civil airworthiness authority. The actions specified by the proposed AD are intended to prevent an inoperative backup flight idle stop system.

DATES: Comments must be received by May 11, 2000.

ADDRESSES: Submit comments in triplicate to the Federal Aviation Administration (FAA), Transport Airplane Directorate, ANM-114, Attention: Rules Docket No. 2000-NM-66-AD, 1601 Lind Avenue, SW., Renton, Washington 98055-4056. Comments may be inspected at this location between 9:00 a.m. and 3:00 p.m., Monday through Friday, except Federal holidays.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington; or at the FAA, Small Airplane Directorate, Atlanta Aircraft Certification Office, One Crown Center, 1895 Phoenix Boulevard, suite 450, Atlanta, Georgia.

FOR FURTHER INFORMATION CONTACT: Linda Haynes, Aerospace Engineer, Propulsion Branch, ACE-117A, FAA, Small Airplane Directorate, Atlanta Aircraft Certification Office, One Crown Center, 1895 Phoenix Boulevard, suite 450, Atlanta, Georgia 30349; telephone (770) 703-6091; fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-66-AD.” The postcard will be date stamped and returned to the commenter.

Availability of NPRMs

Any person may obtain a copy of this NPRM by submitting a request to the FAA, Transport Airplane Directorate, ANM-114, Attention: Rules Docket No. 2000-NM-66-AD, 1601 Lind Avenue, SW., Renton, Washington 98055-4056.

Discussion

On August 12, 1992, the FAA issued AD 92-16-51, amendment 39-8355 (57 FR 40838, September 8, 1992), applicable to all EMBRAER Model EMB-120 series airplanes, to require repetitive visual checks or inspections to verify that the flight idle stop system circuit breakers are closed, and functional tests to determine if the backup flight idle stop system is operative. That action was prompted by a report of an overspeed condition that occurred on both engines of one airplane during flight; both of the circuit breakers in the backup flight idle stop system circuit were open, which may have contributed to this condition. The requirements of that AD are intended to prevent an inoperative backup flight idle stop system and potential engine failure.

Related Rulemaking

A related AD [AD 90-17-12, amendment 39-6696 (55 FR 33107, August 14, 1990)], applicable to certain EMBRAER Model EMB-120 series airplanes, was issued to require installation of an electromechanical lockout device to prevent movement of the power control levers below the flight idle position while the airplane is in flight. Operators should note that issuance of this proposed AD would not remove or alter the requirements of AD 90-17-12.

Actions Since Issuance of AD 92-16-51

In the preamble to AD 92-16-51, the FAA indicated that the actions required by that AD were considered “interim action” and that further rulemaking action was being considered. Additionally, since issuance of AD 92-16-51, the Departmento de Aviacao Civil (DAC), which is the airworthiness authority for Brazil, has advised the FAA that the reliability of the secondary flight idle stop system (SFISS) has been low, and that the SFISS has been shown to be vulnerable to certain maintenance-originated failure modes. The manufacturer has developed a modification that adequately addresses the unsafe condition identified by this AD, and the FAA has determined that further rulemaking action is indeed necessary; this proposed AD follows from that determination.

The actions specified by the proposed AD are intended to increase the SFISS reliability and add a failure annunciation. These actions are intended to prevent an inoperative backup flight idle stop system, and will terminate the requirements of AD 92-16-51.

Explanation of Relevant Service Information

EMBRAER has issued three service bulletins that affect different groups of airplanes and describe procedures for modification of the SFISS for EMBRAER Model EMB-120 series airplanes.

Service Bulletin 120-76-0015, Change No. 05, dated September 9, 1999, describes procedures for replacing the single-coil solenoid, the back-lighted cockpit indicators, and the resistor dimmer with new parts; installing two new relays in the SFISS; and replacing the existing solenoid assembly (comprising a solenoid and stop mechanism) and power control bellcrank with new parts.

Service Bulletin 120-76-0018, Change No. 01, dated September 9, 1999, describes procedures for replacing the solenoid assemblies, certain circuit breakers, and lighted indicators with new, improved parts; installing a terminal board, resistors, wiring, and relays; and changing the power sources.

Service Bulletin 120-76-0022, dated September 9, 1999, describes procedures for replacing the solenoid assemblies and the power control bellcrank with new parts; reidentifying the solenoid assemblies; and installing two new cover/clamp-supports.

Accomplishment of the actions specified in the service bulletins is intended to adequately address the identified unsafe condition. The DAC classified these service bulletins as mandatory and issued Brazilian airworthiness directive 90-07-04R4, dated October 4, 1999, in order to assure the continued airworthiness of these airplanes in Brazil.

FAA's Conclusions

This airplane model is manufactured in Brazil and is type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would supersede AD 92-16-51 to continue to require repetitive visual checks or inspections to verify that the flight idle stop system circuit breakers are closed, and repetitive functional tests to determine if the backup flight idle stop system is operative. This proposed AD would require modification of the SFISS, which would terminate the requirements for the repetitive actions. The actions of the proposed AD would be required to be accomplished in accordance with the service bulletins described previously.

Revised Applicability

This proposed AD would revise the applicability of AD 92-16-51 to remove airplanes on which an equivalent modification, which adequately addresses the identified unsafe condition, is installed during production.

Cost Impact

There are approximately 230 airplanes of U.S. registry that would be affected by this proposed AD.

The actions that are currently required by AD 92-16-51 take approximately 5 work hours per airplane to accomplish, at an average labor rate of $60 per work hour. Based on these figures, the cost impact of the currently required actions on U.S. operators is estimated to be $69,000, or $300 per airplane, per inspection cycle.

The approximate cost, at an average labor rate of $60 per work hour, for the modifications proposed by this AD are listed below.

Service Bulletin | Work hours | Parts cost | Cost per airplane
120-76-0015:
Part I | 4 | $4,376 | $4,616
Part II | 2 | 14,331 | 14,451
120-76-0018 | 50 | 20,000—(varies with config.) | 23,000
120-76-022:
Part I | 2 | 14,150 | 14,270
Part II | 2 | 2,429 | 2,549
Part III | 2 | 14,229 | 14,349

Therefore, based on these figures, the cost impact of the modification proposed by this AD on U.S. operators is estimated to range from $2,549 to $23,000 per airplane.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8355 (57 FR 40838, September 8, 1992), and by adding a new airworthiness directive (AD), to read as follows:

EMPRESA BRASILEIRA DE AERONAUTICA S.A. (EMBRAER): Docket 2000-NM-66-AD. Supersedes AD 92-16-51, Amendment 39-8355.

Applicability: Model EMB-120 series airplanes, certificated in any category; serial numbers 120004 through 120354 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To prevent an inoperative backup flight idle stop system, accomplish the following:

Restatement of Certain Requirements of AD 92-16-51:

(a) For all airplanes: Within 5 days after September 23, 1992 (the effective date of AD 92-16-51, amendment 39-8355), and thereafter prior to the first flight of each day until the requirements of paragraph (d) of this AD have been accomplished, accomplish paragraph (a)(1) or (a)(2) of this AD, as applicable:

(1) For airplanes on which an inspection window has been installed on the left lateral console panel that permits visibility of the flight idle stop solenoid circuit breakers: Using an appropriate light source, perform a visual check to verify that both “FLT IDLE STOP SOL” circuit breakers CB0582 and CB0583 for engine 1 and engine 2 are closed.

Note 2: This check may be performed by a flight crew member.

Note 3: Instructions for installation of an inspection window can be found in EMBRAER Information Bulletin 120-076-0003, dated November 19, 1991; or EMBRAER Service Bulletin 120-076-0014, dated July 29, 1992.

(2) For airplanes on which an inspection window has not been installed on the left lateral console panel: Perform a visual inspection to verify that both “FLT IDLE STOP SOL” circuit breakers CB0582 and CB0583 for engine 1 and engine 2 are closed.

(b) As a result of the check or inspection performed in accordance with paragraph (a) of this AD: If circuit breakers CB0582 and CB0583 are not closed, prior to further flight, reset them and perform the functional test specified in paragraph (c) of this AD.

(c) Within 5 days after September 23, 1992, and thereafter at intervals not to exceed 75 hours time-in-service, or immediately following any maintenance action where the power levers are moved with the airplane on jacks, until the requirements of paragraph (d) of this AD have been accomplished, conduct a functional test of the backup flight idle stop system for engine 1 and engine 2 by performing the following steps:

(1) Move both power levers to the “MAX” position.

(2) Turn the aircraft power select switch on.

(3) Open both “AIR/GROUND SYSTEM” circuit breakers CB0283 and CB0286 to simulate in-flight conditions with weight-off-wheels. Wait for at least 15 seconds, then move both power levers back toward the propeller reverse position with the flight idle gate triggers raised. Verify that the power lever for each engine cannot be moved below the flight idle position, even though the flight idle gate trigger on each power lever is raised.

(4) If the power lever can be moved below the flight idle position, prior to further flight, restore the backup flight idle stop system to the configuration specified in EMBRAER Service Bulletin 120-076-0009, Change No. 4, dated November 1, 1990, and perform a functional test.

Note 4: If the power lever can be moved below flight idle, this indicates that the backup flight idle stop system is inoperative.

(5) Move both power levers to the “MAX” position.

(6) Close both “AIR/GROUND SYSTEM” circuit breakers CB0283 and CB0286. Wait for at least 15 seconds, then move both power levers back toward the propeller reverse position with the flight idle gate triggers raised. Verify that the power lever for each engine can be moved below the flight idle position.

(7) If either or both power levers cannot be moved below the flight idle position, prior to further flight, inspect the backup flight idle stop system and the flight idle gate system, and accomplish either paragraph (c)(7)(i) or (c)(7)(ii) of this AD, as applicable:

(i) If the backup flight idle stop system is failing to disengage with weight-on-wheels, prior to further flight, restore the system to the configuration specified in EMBRAER Service Bulletin 120-076-0009, Change No. 4, dated November 1, 1990.

(ii) If the flight idle gate system is failing to open even though the trigger is raised, prior to further flight, repair in accordance with the EMBRAER Model EMB-120 maintenance manual.

(8) Turn the power select switch off. The functional test is completed.

New Requirements of This AD:

(d) Within 18 months after the effective date of this AD, modify the secondary flight idle stop system (SFISS), as specified by paragraph (d)(1), (d)(2), or (d)(3), as applicable, of this AD. Accomplishment of the modification constitutes terminating action for the requirements of this AD.

(1) For airplane serial number 120068: Modify the SFISS in accordance with Parts I and II of EMBRAER Service Bulletin 120-76-0015, Change No. 05, dated September 9, 1999.

(2) For airplanes having serial numbers 120004 through 120067 inclusive and 120069 through 120344 inclusive, on which the actions specified by the original issue of EMBRAER Service Bulletin 120-76-0018, dated September 17, 1998, have not been accomplished: Modify the SFISS in accordance with EMBRAER Service Bulletin 120-76-0018, Change No. 01, dated September 9, 1999.

(3) For airplanes having serial numbers 120345 through 120354 inclusive; and for airplanes having serial numbers 120004 through 120345 inclusive, on which the actions specified by the original issue of EMBRAER Service Bulletin 120-76-0018, dated September 17, 1998, have been incorporated: Modify the SFISS in accordance with Part I, II, or III, as applicable, of EMBRAER Service Bulletin 120-76-0022, dated September 9, 1999.

Note 5: Accomplishment of the requirements of paragraph (d) of this AD does not remove or otherwise alter the requirement to perform the repetitive (400-flight-hour) CAT 8 task checks specified by the Maintenance Review Board (MRB).

Alternative Methods of Compliance

(e)(1) An alternative method of compliance or adjustment of the compliance time that provides an acceptable level of safety may be used if approved by the Manager, Atlanta Aircraft Certification Office (ACO), FAA, Small Airplane Directorate. Operators shall submit their requests through an appropriate FAA Principal Maintenance Inspector, who may add comments and then send it to the Manager, Atlanta ACO.

(2) Alternative methods of compliance, approved previously for paragraphs (a), (b), and (c) of AD 92-16-51, are considered to be approved as alternative methods of compliance with the inspection requirements of paragraphs (a), (b), and (c) of this AD. No alternative methods of compliance have been approved in accordance with AD 92-16-51 as terminating action for this AD.

Note 6: Information concerning the existence of approved alternative methods of compliance with this AD, if any, may be obtained from the Atlanta ACO.

Special Flight Permits

(f) Special flight permits may be issued in accordance with sections 21.197 and 21.199 of the Federal Aviation Regulations (14 CFR 21.197 and 21.199) to operate the airplane to a location where the requirements of this AD can be accomplished.

Note 7: The subject of this AD is addressed in Brazilian airworthiness directive 90-07-04R4, dated October 4, 1999.

Issued in Renton, Washington, on April 5, 2000.
Donald L. Riggin,
Acting Manager, Transport Airplane Directorate, Aircraft Certification Service.

[FR Doc. 00-8993 Filed 4-10-00; 8:45 am]

BILLING CODE 4910-13-U